SOCIAL SECURITY ADMINISTRATION

[Docket No. SSA-2023-0037]

Privacy Act of 1974; System of Records

AGENCY: Social Security Administration (SSA).

ACTION: Notice of a modified system of records.

SUMMARY: In accordance with the Privacy Act of 1974, we are issuing public notice of our intent to modify our existing systems of records listed below under the System Name and Number section. This notice publishes details of the modified systems as set forth below under the caption, SUPPLEMENTARY INFORMATION.

DATES: The system of records notice (SORN) is applicable upon its publication in today's Federal Register, with the exception of the new routine use, which is effective March 28, 2024.

We invite public comment on the addition of the routine use. In accordance with the Privacy Act of 1974, we are providing the public a 30-day period in which to submit comments. Therefore, please submit any comments by March 28, 2024.

ADDRESSES: The public, Office of Management and Budget (OMB), and Congress may comment on this publication by writing to the Executive Director, Office of Privacy and Disclosure, Office of the General Counsel, SSA, Room G-401 West High Rise, 6401 Security Boulevard, Baltimore, Maryland 21235-6401, or through the Federal e-Rulemaking Portal at https://www.regulations.gov. Please reference docket number SSA-2023-0037. All comments we receive will be available for public inspection at the above address, and we will post them to https://www.regulations.gov.

FOR FURTHER INFORMATION CONTACT: Tristin Dorsey, Government Information Specialist, Privacy Implementation Division, Office of Privacy and Disclosure, Office of the General Counsel, SSA, Room G-401 West High Rise, 6401 Security Boulevard, Baltimore, Maryland 21235-6401, telephone: (410) 966-5855, email: OGC.OPD.SORN@ssa.gov.

SUPPLEMENTARY INFORMATION: Claimants may appoint a representative to assist them when they are conducting business with SSA. However, the appointed representative may work with others such as a contractor to efficiently serve their client, e.g., copy retrieval service to obtain documents. We are updating the existing routine uses in the systems of records listed below to reflect the following:

To claimants, prospective claimants (other than the data subject), and their appointed representatives and those working with such representatives (including, but not limited to, partners, associates, and contractors) when the information pertains to the individuals whom the appointed representative is representing; and to representative payees, when the information pertains to individuals for whom they serve as representative payees, for the purpose of assisting us in administering representative payment responsibilities under the Social Security Act, to the extent necessary to pursue Social Security claims, and for the purpose of assisting them in performing their duties as payees, including receiving and accounting for benefits for individuals for whom they serve as payees.

SYSTEM NAME AND NUMBER:

System number and name | Routine uses | Federal Register citation No./ publication date
60-0089—Claims Folders System | No. 17 | 84 FR 58422, 10/31/19.
60-0090—Master Beneficiary Record | No. 1 | 71 FR 1829, 01/11/06.
|  | 72 FR 69723, 12/10/07.
|  | 78 FR 40542, 07/05/13.
|  | 83 FR 31250, 07/03/18.
|  | 83 FR 31251, 07/03/18.
|  | 83 FR 54969, 11/01/18.
60-0103—Supplemental Security Income Record and Special Veterans Benefits | No. 27 | 71 FR 1830, 01/11/06. 72 FR 69723, 12/10/07.
|  | 83 FR 31250, 07/03/18.
|  | 83 FR 31251, 07/03/18.
|  | 83 FR 54969, 11/01/18.
60-0320—Electronic Disability Claim File (eDib) | No. 18 | 85 FR 34477, 06/04/20.

We are not republishing the system of records notices in their entirety. Instead, we are republishing only the identification number; the system of records name; the number of the modified routine use; and the issue of the Federal Register in which the system of records notice was last published in full, including the subsequent modification to the system of records notice's publication date and page number.

SECURITY CLASSIFICATION:

Unclassified.

SYSTEM LOCATION:

SSA provides the address of the component and system manager responsible for each system in the Federal Register notices listed above.

SYSTEM MANAGER(S):

SSA provides the title, business address, and contact information of the agency official who is responsible for the system in the Federal Register notices listed above.

HISTORY:

SSA provides the citation to the last fully published Federal Register notice, as well as last subsequent modification notice to the system of records notices listed above.

In accordance with 5 U.S.C. 552a(r), we have provided a report to OMB and Congress on this modified system of records.

Matthew Ramsey,
Executive Director, Office of Privacy and Disclosure, Office of the General Counsel.

[FR Doc. 2024-03947 Filed 2-26-24; 8:45 am]

BILLING CODE 4191-02-P